DEPARTMENT OF HEALTH AND HUMAN SERVICES

Centers for Disease Control and Prevention

[Funding Opportunity Number: CE05-029]

Dissemination Research on Fall Prevention: Development and Testing of an Exercise Program Package To Prevent Older Adult Falls; Notice of Availability of Funds—Amendment

A notice announcing the availability of fiscal year (FY) 2005 funds for cooperative agreements to conduct a research program on translating an exercise intervention that rigorous research has shown is effective in reducing falls among older adults into a program; testing implementation of the program in a community setting; and conducting dissemination research focusing on reach, uptake, feasibility, fidelity of the implementation, and acceptability was published in the Federal Register on November 8, 2004, Vol. 69, No. 215, pages 64762-64769. The notice is amended as follows to remove the requirement for submission of Letters of Intent (LOI):

On page 64764, column 3, section III.3. Other, Special Requirements, in the second bullet change the first sentence to read “In order to plan the application review more effectively and efficiently, CDC requests that you submit a Letter of Intent (LOI) to apply for this program.”

On page 64765, column 3, section IV.3. Submission Dates and Times, remove the one-sentence paragraph under Letter of Intent (LOI): December 8, 2004.

Dated: December 23, 2004.
William P. Nichols,
Director, Procurement and Grants Office, Centers for Disease Control and Prevention.

[FR Doc. 04-28660 Filed 12-30-04; 8:45 am]

BILLING CODE 4163-18-P